DEPARTMENT OF TRANSPORTATION

Federal Aviation Administration

Notice of Intent To Request Revision From the Office of Management and Budget of a Currently Approved Information Collection Activity, Request for Comments; Certification of Airmen for the Operation of Light-Sport Aircraft

AGENCY: Federal Aviation Administration (FAA), DOT.

ACTION: Notice and request for comments.

SUMMARY: The FAA invites public comments about our intention to request the Office of Management and Budget (OMB) to approve a current information collection. This proposal establishes requirements for the certification, operation, and maintenance of light-sport aircraft.

DATES: Carla Mauney on (202) 267-9895, or by e-mail at: Carla.Mauney@faa.gov.

SUPPLEMENTARY INFORMATION:

Federal Aviation Administration (FAA)

Title: Certification of Airmen for the Operation of Light-Sport Aircraft.

Type of Request: Revision of an approved collection.

OMB Control Number: 2120-0690.

Form(s): 8130-6, 8130-7, 8710-11, 8130-XX, 8710-XX, 337, 8110-14, 8110-28, 8610-2.

Affected Public: A total of 28,449 Respondents.

Frequency: The information is collected on occasion.

Estimated Average Burden per Response: Approximately 1.27 hours per response.

Estimated Annual Burden Hours: An estimated 72,582 hours annually.

Abstract: This proposal establishes requirements for the certification, operation, and maintenance of light-sport aircraft. The FAA has proposed establishing a sport pilot certificate and a flight instructor certificate with a sport pilot rating. The FAA also has proposed establishing requirements for student pilots and private pilots to operate these aircraft, and revising the recreational pilot certificate to align it with privileges certificate with ratings for individuals who would inspect and maintain light-sport aircraft. In addition, the FAA has proposed a new category of special airworthiness certificate for light-sport aircraft that meet a consensus standard.

ADDRESSES: Send comments to the FAA at the following address: Ms. Carla Mauney, Room 712, Federal Aviation Administration, Strategy and Investment Analysis Division, AIO-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 20, 2007.
Carla Mauney,
FAA Information Collection Clearance Officer, Strategy and Investment Analysis Division, AIO-20.

[FR Doc. 07-1466 Filed 3-23-07; 8:45 am]

BILLING CODE 4910-13-M